DEPARTMENT OF TRANSPORTATION

Federal Railroad Administration

Notice of Funding Opportunity for the Restoration and Enhancement Grants Program

AGENCY: Federal Railroad Administration (FRA), Department of Transportation (DOT).

ACTION: Notice of Funding Opportunity (NOFO or notice).

SUMMARY: This notice details the application requirements and procedures to obtain grant ¹ funding for eligible projects under the Restoration and Enhancement (R&E) Grants Program. This notice makes available R&E Grants Program funding provided by the Consolidated Appropriations Act, 2017, Div. K, Tit. I, Public Law 115-31 (Appropriations Act). The opportunities described in this notice are available under Catalog of Federal Domestic Assistance (CFDA) number 20.324, “Restoration and Enhancement.”

¹ The term “grant” is used throughout this document and is intended to reference funding awarded through a grant agreement, as well as funding awarded through a cooperative agreement.

DATES: Applications for funding under this solicitation are due no later than 5:00 p.m. EDT May 22, 2018. Applications for funding, or supplemental material in support of an application, received after 5:00 p.m. EDT on May 22, 2018 will not be considered for funding. Incomplete applications will not be considered for funding. See Section D of this notice for additional information on the application process.

ADDRESSES: Applications must be submitted via www.Grants.gov. Only applicants who comply with all submission requirements described in this notice and submit applications through www.Grants.gov will be eligible for award. For any supporting application materials that an applicant is unable to submit via www.Grants.gov, an applicant may submit an original and two (2) copies to Amy Houser, Office of Program Delivery, Federal Railroad Administration, 1200 New Jersey Avenue SE, Room W36-412, Washington, DC 20590. However, due to delays caused by enhanced screening of mail delivered via the U.S. Postal Service, applicants are advised to use other means of conveyance (such as courier service) to assure timely receipt of materials before the application deadline.

FOR FURTHER INFORMATION CONTACT: For further information regarding this notice, please contact Ruthie Americus, Office of Policy and Planning, Federal Railroad Administration, 1200 New Jersey Avenue SE, Room W36-403, Washington, DC 20590; email: ruthie.americus@dot.gov; phone: 202-493-0431. Grant application submission and processing questions should be addressed to Amy Houser, Office of Program Delivery, Federal Railroad Administration, 1200 New Jersey Avenue SE, Room W36-412, Washington, DC 20590; email: amy.houser@dot.gov; phone: 202-493-0303.

SUPPLEMENTARY INFORMATION:

Notice to applicants: FRA recommends that applicants read this notice in its entirety prior to preparing application materials. A list providing the definitions of key terms used throughout the NOFO is in Section A(2) below. These key terms are capitalized throughout the NOFO. There are several administrative prerequisites and eligibility requirements described herein that applicants must comply with to submit an application. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

A. Program Description

1. Overview

The purpose of this notice is to solicit applications for Operating Assistance grants for Initiating, Restoring, or Enhancing Intercity Rail Passenger Transportation authorized in Section 11303 of the Fixing America's Surface Transportation (FAST) Act, Public Law 114-94 (2015); 49 U.S.C. 24408 and funded in the Appropriations Act. FRA will consider applications consistent with the priorities in 49 U.S.C. § 24408(d).

2. Definitions of Key Terms

a. “Enhancing” or “Enhance” means upgrading or modifying the service currently offered on a route or train. Examples may include operating costs associated with, but are not limited to, adding a station stop, increasing frequency of a train (e.g., bi-weekly to daily train service or increasing daily train service frequencies), or modifying on-board services offered on the train (e.g., food or sleeping accommodations).

b. “Initiating” or “Initiate” means commencing service on a route that did not previously operate Intercity Rail Passenger Transportation.

c. “Intercity Rail Passenger Transportation” is defined by 49 U.S.C. 24102(4) to mean rail passenger transportation, except commuter rail passenger transportation. “Intercity Rail Passenger Service” is used interchangeably with “Intercity Rail Passenger Transportation” in this NOFO and is intended to have the same meaning.

d. “Net Operating Costs” are defined as operating expenses incurred minus operating revenue. Operating costs are described below in the definition for Operating Assistance.

e. “Operating Assistance” refers to financial assistance covering expenses associated with the operation of Intercity Rail Passenger Transportation. Examples of such expenses may include: Staffing costs for train engineers, conductors, and on-board service crew; diesel fuel or electricity costs associated with train propulsion power; station costs such as ticket sales, customer information, and train dispatching services; station building utility and maintenance costs; lease payments on rolling stock; routine planned maintenance costs of equipment and train cleaning; host railroad costs; train yard operation costs; general and administrative costs; and management, marketing, sales and reservations costs.

f. “Rail Carrier” or “Railroad Carrier” is defined by 49 U.S.C. 10102(5) to mean a person providing common carrier railroad transportation for compensation, but does not include street, suburban, or interurban electric railways not operated as part of the general system of rail transportation.

g. “Restoring” or “Restore” means reinstating service to a route that formerly operated Intercity Rail Passenger Transportation.

B. Federal Award Information

1. Available Award Amount

The total funding available for awards under this NOFO is $4,796,500 after $50,000 is set aside for FRA project management oversight as provided in the Appropriations Act and $153,500 is set aside for Special Transportation Circumstances grants that will be announced under a separate NOFO.

2. Award Limits

The R&E grants may not provide funding for more than three years for any individual Intercity Rail Passenger Transportation route and may not be renewed. Applicants can apply to use R&E funding for: (a) Multiple (up to the first three) years of service or (b) only the first year of service. Grantees receiving funding for only the first year of service may apply for R&E Operating Assistance for the second and third year of service in response to future NOFOs, if funds are available. In addition, no more than six R&E grants may be active simultaneously, but an applicant may be awarded more than one grant.

3. Award Size

While there are no predetermined minimum or maximum dollar thresholds for awards, FRA will only make a maximum of six simultaneous awards with the available funding. Projects may require more funding than is available. Given the limited amount of funding currently available, applicants are also encouraged to identify scalable elements, because FRA may select a project for funding that is less than the total amount requested in the application.

FRA may not be able to award grants to all eligible applications, or even those applications that meet or exceed the stated evaluation criteria (see Section E, Application Review Information). A recipient of an R&E grant may use the grant funding in combination with other Federal grants that would benefit the applicable rail service.

4. Award Type

FRA will make awards for projects selected under this notice through cooperative agreements. Cooperative agreements allow for substantial Federal involvement in carrying out the agreed upon investment, including technical assistance, and increased program oversight under 2 CFR 200.24. The funding provided under these cooperative agreements will be made available to grantees on a reimbursable basis. Applicants must certify that their expenditures are allowable, allocable, reasonable, and necessary to the approved project before seeking reimbursement from FRA. Additionally, the grantee must expend matching funds at the required percentage alongside Federal funds throughout the life of the project. FRA may award grants in installments, and may terminate any cooperative agreement upon the cessation of service or the violation of any other term of the cooperative agreement.

C. Eligibility Information

This section of the notice explains applicant eligibility, cost sharing and matching requirements, and project eligibility. Applications that do not meet the requirements in this section will be ineligible for funding. Instructions for submitting eligibility information to FRA are detailed in Section D of this NOFO.

1. Eligible Applicants

The following entities are eligible applicants for all project types permitted under this notice:

(1) A State (including the District of Columbia);

(2) A group of States;

(3) An Interstate Compact;

(4) A public agency or publicly chartered authority established by one or more States; ²

² See Section D(2)(a)(iv) for supporting documentation required to demonstrate eligibility under this eligibility category.

(5) A political subdivision of a State;

(6) Amtrak or another Rail Carrier that provides Intercity Rail Passenger Transportation;

(7) Any Rail Carrier in partnership with at least one of the entities described in paragraphs (1) through (5); and

(8) Any combination of the entities described in paragraph (1) through (7).

Joint applicants must identify an eligible applicant as the lead applicant. The lead applicant serves as the primary point of contact for the application, and if selected, as the recipient of the R&E Program grant award. Joint applicants must include a description of the roles and responsibilities of each applicant, including budget and sub-recipient information showing how the applicants will share project costs, and must be signed by an authorized representative of each. Entities that are not eligible applicants may be included in an application with one or more eligible applicants.

2. Cost Sharing or Matching

Grants for a project funded under the R&E program shall not exceed 80 percent of the projected Net Operating Costs for the first year of service; 60 percent of the Net Operating Costs for the second year of service; and 40 percent of the projected Net Operating Costs for the third year of service. FRA will give priority to applications proposing a lower R&E grant share of projected Net Operating Costs than stated above, as further discussed in Section E(1). The required matching funds for the projected Net Operating Costs not covered by the R&E grant may be comprised of eligible public sector funding (state, local, or other federal funding) or private sector funding. However, FRA will not consider funds already expended (or otherwise encumbered) that do not comply with 2 CFR 200.458 toward the matching funds requirement. Additionally, only cash contributions will be counted toward the matching funds requirements. FRA strongly encourages applicants to identify and include state, local, Amtrak, public agency or authority, or private funding or financing to support the proposed project. Applicants must identify the source(s) of their matching funds for the R&E grant associated with the service, and must clearly and distinctly reflect these funds in the application budget.

Before submitting an application, applicants should carefully review the principles for cost sharing or matching in 2 CFR 200.306.

3. Project Eligibility

Projects eligible for funding under this NOFO must be projects for Operating Assistance to Initiate, Restore, or Enhance Intercity Rail Passenger Transportation. FRA will give priority to proposed projects in applications that:

a. Show completed or nearly completed planning, design, environmental reviews, negotiation of agreements, acquisition of equipment, construction, and other actions necessary for Initiation, Restoration, or Enhancement of service;

b. Restore service over routes formerly operated by Amtrak, including routes in the Gulf Coast region between New Orleans, Louisiana, and Orlando, Florida as described in section 11304 of the Passenger Rail Reform and Investment Act of 2015;

c. Provide daily or daytime service over routes where such service did not previously exist;

d. Include funding or other significant participation by State, local, and regional governmental and private entities;

e. Include a funding plan that demonstrates the Intercity Rail Passenger Service will be financially sustainable beyond the three-year grant period;

f. Provide service to regions and communities that are underserved or not served by other intercity public transportation;

g. Foster economic development, particularly in rural communities and for disadvantaged populations;

h. Provide other non-transportation benefits, such as livability benefits; and

i. Enhance connectivity and geographic coverage of the existing national network of Intercity Rail Passenger Service.

D. Application and Submission Information

Required documents for the application are outlined in the following paragraphs. Applicants must complete and submit all components of the application. See Section D(2) for the application checklist. FRA welcomes the submission of additional relevant supporting documentation, such as host railroad agreements, Amtrak/operator agreements, and funding commitment documentation. The additional relevant supporting documentation will not count against the Project Narrative page limit.

1. Address To Request Application Package

Applicants must submit all application materials in their entirety through http://www.Grants.gov no later than 5:00 p.m. EDT, on May 22, 2018. FRA reserves the right to modify this deadline. General information for submitting applications through Grants.gov can be found at: https://www.fra.dot.gov/Page/P0270.

For any supporting application materials that an applicant cannot submit via Grants.gov, an applicant may submit an original and two (2) copies to Amy Houser, Office of Program Delivery, Federal Railroad Administration, 1200 New Jersey Avenue SE, Room W36-412, Washington, DC 20590. However, due to delays caused by enhanced screening of mail delivered via the U.S. Postal Service, FRA advises applicants to use other means of conveyance (such as courier service) to assure timely receipt of materials before the application deadline. Additionally, if documents can be obtained online, explaining to FRA how to access files on a referenced website may also be sufficient.

2. Content and Form of Application Submission

FRA strongly advises applicants to read this section carefully. Applicants must submit all required information and components of the application package to be considered for funding. Additionally, applicants selected to receive funding must generally satisfy the grant readiness checklist requirements on https://www.fra.dot.gov/Page/P0268 as a precondition to FRA issuing a grant award, as well as the requirements in 49 U.S.C. 24405 explained in part at https://www.fra.dot.gov/page/P0185.

Required documents for an application package are outlined in the checklist below.

• Project Narrative (see D.2.a)

• Statement of Work (see D.2.b.i)

• Capital and mobilization plan (see D.2.b.ii)

• Operating plan (see D.2.b.iii)

• Funding plan (see D.2.b.iv)

• Status of negotiations and agreements (see D.2.b.v)

• SF424—Application for Federal Assistance

• SF 424A—Budget Information for Non-Construction

• SF 424B—Assurances for Non-Construction

• FRA's Additional Assurances and Certifications

• SF LLL—Disclosure of Lobbying Activities

a. Project Narrative

This section describes the minimum content required in the Project Narrative of the grant application. The Project Narrative must follow the basic outline below to address the program requirements and assist evaluators in locating relevant information.

I. Cover Page | See D.2.a.i.
II. Project Summary | See D.2.a.ii.
III. Project Funding Summary | See D.2.a.iii.
IV. Applicant Eligibility Criteria | See D.2.a.iv.
V. Project Eligibility Criteria | See D.2.a.v.
VI. Detailed Project Description | See D.2.a.vi.
VII. Project Location | See D.2.a.vii.
VIII. Evaluation and Selection Criteria | See D.2.a.viii.
IX. Project Implementation and Management | See D.2.a.ix.
X. Project Readiness | See D.2.a.x.

These requirements must be satisfied through a narrative statement submitted by the applicant. The Project Narrative may not exceed 25 pages in length (excluding cover pages, table of contents, and supporting documentation). FRA will not review or consider for award applications with Project Narratives exceeding the 25-page limitation. If possible, applicants should submit supporting documents via website links rather than hard copies. If supporting documents are submitted, applicants must clearly identify the page number of the relevant portion of the supporting documentation in the Project Narrative. The Project Narrative must adhere to the following outline.

i. Cover Page: Include a cover page that lists the following elements in either a table or formatted list: Project title; location (e.g., city, State, Congressional district); lead applicant organization name; name of any co-applicants; projected Net Operating Costs; the annual amount of R&E funding requested up to the first three years of operation; and match for the remaining operating costs not provided by R&E funding.

ii. Project Summary: Provide a brief 4-6 sentence summary of the proposed project and what the project will entail. Include challenges the proposed project aims to address, and summarize the intended outcomes and anticipated benefits that will result from the proposed project.

iii. Project Funding Summary: Indicate the annual amount of R&E funding requested, the match for the remaining operating costs not provided by R&E funding, and the total annual projected Net Operating Costs for the first three years of operation. Identify the source(s) of matching funds, and clearly and distinctly reflect these funds as part of the total projected Net Operating Cost in the application budget. Additionally, identify any other sources of Federal funds committed to the project and any pending Federal requests. Also, note if the requested Federal funding must be obligated or spent by a certain date due to dependencies or relationships with other Federal or non-Federal funding sources, related projects, law, or other factors. Additionally, specify whether Federal funding for the project has previously been sought, and identify the Federal program and fiscal year of the funding request(s). Rail Carriers other than Amtrak should state whether they will require access to Amtrak's reservation system, stations, or facilities because they are directly related to the Rail Carrier's operations, and whether they expect the FRA to award a portion of the requested R&E grant to Amtrak for such access (and in what amount).³ Provide information about any requests submitted to other programs for capital funding related to this project that supports project commitment to the Initiation, Restoration, or Enhancement of the Intercity Rail Passenger Service.

³ The Secretary, acting through the FRA, is permitted in 49 U.S.C. 24408(h) to award an appropriate portion of R&E grants under this NOFO to Amtrak as compensation for permitting certain access.

iv. Applicant Eligibility Criteria: Explain how the applicant meets the applicant eligibility criteria outlined in Section C of this notice, including references to creation or enabling legislation for public agencies and publicly chartered authorities established by one or more States. Joint applications must include a description of the roles and responsibilities of each applicant, including budget and sub-recipient information showing how the applicants will share project costs, and must be signed by an authorized representative of each joint applicant.

v. Project Eligibility Criteria: Explain how the project meets the project eligibility criteria in Section C(3) of this notice.

vi. Detailed Project Description: Include a detailed project description that expands upon the brief summary required above and cites with page number references to information included in documents responsive to Subsections D(2)(b)(ii-v). This detailed description should provide, at a minimum: The specific components and elements of the project, including service frequency; planned routes and schedules; station facilities; equipment that will be used and how it will be acquired or refurbished (if necessary); where equipment will be maintained and by what entity; additional background on the challenges the project aims to address; the expected users and beneficiaries of the project; projected ridership, revenues and costs; all railroads whose tracks will be used; service providers or entities expected to provide services or facilities that will be used, including access to Amtrak systems, stations, and facilities; train operators and their qualifications; plan for ensuring safe operations; and any other information the applicant deems necessary to justify the proposed project.

vii. Project Location: Include geospatial data for the project, as well as a map of the project's location. Include the Congressional districts in which the project will take place.

viii. Evaluation and Selection Criteria: Include a thorough discussion of how the proposed project meets all of the evaluation and selection criteria, as outlined in Section E of this notice. If an application does not sufficiently address the evaluation criteria and the selection criteria, it is unlikely to be a competitive application.

ix. Project Implementation and Management: Describe proposed project implementation and project management arrangements. Include descriptions of the expected arrangements for project contracting, contract oversight, change-order management, risk management, and conformance to Federal requirements for project progress reporting.

x. Project Readiness: Provide a brief summary of the: Capital and mobilization plan including any capital investments; service planning actions; mobilization actions (such as qualification of train crews); and timeline for undertaking and completing each of the investments. Describe the appropriate planning, design, any environmental reviews, negotiation of agreements, acquisition of equipment, construction, and other actions necessary for Initiation of service that have been completed or nearly completed. Provide the date when the first year of rail service will commence or when Enhancements to existing service will be placed into service.

b. Additional Application Elements

Applicants must submit:

i. A Statement of Work (SOW) addressing the scope, schedule, and budget for the proposed project if it were selected for award. The SOW must contain sufficient detail so FRA, and the applicant, can understand the expected outcomes of the proposed work to be performed and can monitor progress toward completing project tasks and deliverables during a prospective grant's period of performance. Applicants must use the standard SOW template to be considered for award. The SOW template is located at https://www.fra.dot.gov/eLib/Details/L18661. When preparing the budget, the total cost of a project must be based on the best available information as indicated in cited references. The project schedule should be sufficiently detailed to include the date when the first year of service will commence (or when the proposed Enhancement will be placed into service), as well as reasonable due dates for expenses associated with the operation of the Intercity Rail Passenger Transportation.

ii. Capital and mobilization plan that includes:

(A) A description of any capital investments, service planning actions (such as environmental reviews), and mobilization actions (such as qualifications of train crews) required for Initiation of the Intercity Rail Passenger Transportation; and

(B) A timeline for undertaking and completing each of the investments and actions referred to in subparagraph (A).

iii. Operating plan describing:

(A) Planned service operation;

(B) Identity and qualifications of the train operator;

(C) Identity and qualifications of any other service providers (e.g. on-board service, equipment maintenance, station staff);

(D) Service frequency;

(E) Planned routes and schedules;

(F) Station facilities that will be utilized;

(G) Projected ridership, revenues, and costs;

(H) Descriptions of how the projections under subparagraph (G) were developed;

(I) Equipment that will be utilized, how such equipment will be acquired or refurbished (if necessary), and where such equipment will be maintained; and

(J) A plan for ensuring safe operations and compliance with applicable safety regulations;

iv. Funding plan that:

(A) Describes the funding of initial capital costs and operating costs for the first three years of operation;

(B) Includes commitment by the applicant to provide the funds described in subparagraph (A) to the extent not covered by Federal grants and revenues; and

(C) Describes the funding of operating costs and capital costs, to the extent necessary, after the first three years of operation.

v. Status of negotiations and agreements with:

(A) Each of the railroads or regional transportation authorities whose tracks or facilities would be utilized by the service;

(B) The anticipated Railroad Carrier, if such entity is not part of the applicant group; and

(C) Any other service providers or entities expected to provide services or facilities that will be used by the service, including any required access to Amtrak systems, stations, and facilities if Amtrak is not part of the applicant group.

vi. SF424—Application for Federal Assistance

vii. SF 424A—Budget Information for Non-Construction

viii. SF 424B—Assurances for Non-Construction

ix. FRA's Additional Assurances and Certifications; and

x. SF LLL—Disclosure of Lobbying Activities.

Forms needed for the electronic application process are at www.Grants.gov.

c. Post-Selection Requirements

See Section F(2) for post-selection requirements.

1. Unique Entity Identifier, System for Award Management (SAM), and Submission Instructions

All applicants must be registered as an organization with Grants.gov. To apply for funding through Grants.gov, applicants must be properly registered. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a discretionary grant award to an applicant until the applicant has complied with all applicable Data Universal Numbering System (DUNS) and SAM requirements. (Please note that if a Dun & Bradstreet DUNS number must be obtained or renewed, this may take a significant amount of time to complete.) Late applications that are the result of failure to register or comply with Grants.gov applicant requirements in a timely manner will not be considered. If an applicant has not fully complied with the requirements by the submission deadline, the application will not be considered. To submit an application through Grants.gov, applicants must:

a. Obtain a DUNS Number

A DUNS number is required for Grants.gov registration. The Office of Management and Budget requires that all businesses and nonprofit applicants for Federal funds include a DUNS number in their applications for a new award or renewal of an existing award. A DUNS number is a unique nine-digit sequence recognized as the universal standard for the government in identifying and keeping track of entities receiving Federal funds. The identifier is used for tracking purposes and to validate address and point of contact information for Federal assistance applicants, recipients, and sub-recipients. The DUNS number will be used throughout the grant life cycle. Obtaining a DUNS number is a free, one-time activity. Applicants may obtain a DUNS number by calling 1-866-705-5711 or by applying online at http://www.dnb.com/us.

b. Register With the SAM at www.SAM.gov

All applicants for Federal financial assistance must maintain current registrations in the SAM database. An applicant must be registered in SAM to successfully register in Grants.gov. The SAM database is the repository for standard information about Federal financial assistance applicants, recipients, and sub recipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award. Information about SAM registration procedures is available at www.sam.gov.

c. Create a Grants.gov Username and Password

Applicants must complete an Authorized Organization Representative (AOR) profile on www.Grants.gov and create a username and password. Applicants must use the organization's DUNS number to complete this step. Additional information about the registration process is available at: https://www.grants.gov/web/grants/applicants/organization-registration.html.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in this NOFO

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html

Note: Please use generally accepted formats such as .pdf, .doc, .docx, .xls, .xlsx and .ppt, when uploading attachments. While applicants may embed picture files, such as .jpg, .gif, and .bmp, in document files, applicants should not submit attachments in these formats. Additionally, the following formats will not be accepted: .com, .bat, .exe, .vbs, .cfg, .dat, .db, .dbf, .dll, .ini, .log, .ora, .sys, and .zip.

2. Submission Dates and Times

Applicants must submit complete applications in their entirety to www.Grants.gov no later than 5:00 p.m. EDT, May 22, 2018. FRA reviews www.Grants.gov information on dates/times of applications submitted to determine timeliness of submissions. Late applications will be neither reviewed nor considered. Delayed registration is not an acceptable reason for late submission. Applicants are strongly encouraged to apply early to ensure that all materials are received before this deadline.

To ensure a fair competition of limited discretionary funds, the following conditions are not valid reasons to permit late submissions: (1) Failure to complete the registration process before the deadline; (2) failure to follow Grants.gov instructions on how to register and apply as posted on its website; (3) failure to follow all instructions in this NOFO; and (4) technical issues experienced with the applicant's computer or information technology environment.

3. Intergovernmental Review

Executive Order 12372 requires applicants from State and local units of government or other organizations providing services within a State to submit a copy of the application to the State Single Point of Contact (SPOC), if one exists, and if this program has been selected for review by the State. Applicants must contact their State SPOC to determine if the program has been selected for State review.

4. Funding Restrictions

R&E grants awarded for any individual Intercity Rail Passenger Transportation route will not receive funding for more than three years and may not be renewed. No more than six Operating Assistance grant awards will be simultaneously active. FRA will only approve pre-award costs consistent with 2 CFR 200.458. Under 2 CFR 200.458, grant recipients must seek written approval from FRA for pre-award activities to be eligible for reimbursement under the cooperative agreement. Activities initiated prior to the execution of a cooperative agreement without FRA's written approval may not be eligible for reimbursement or included as a grantee's matching contribution. For Enhancement projects, FRA will only fund the portion of the operating costs associated with the Enhancement, and not the entire project or service.

E. Application Review Information

1. Criteria

a. Eligibility and Completeness Review

FRA will first screen each application for eligibility (eligibility requirements are outlined in Section C of this notice) and completeness (application documentation and submission requirements are outlined in Section D of this notice). The matching requirement is considered in determining whether the application is eligible. FRA will also provide selection preference to applications where the proposed matching funds exceed the annual minimum required amounts specified in Section C(2).

b. Evaluation Criteria

FRA subject-matter experts will evaluate all eligible and complete applications using the evaluation criteria outlined in this section to determine technical merit and public benefits consistent with the priorities in 49 U.S.C. § 24408(d).

i. Technical Merit: FRA will evaluate application information for the degree to which—

(A) The tasks and subtasks outlined in the SOW are appropriate to achieve the expected outcomes of the proposed project.

(B) The appropriate planning, design, any environmental reviews, negotiation of agreements, acquisition of equipment, construction, and other actions necessary for Initiation of service have been completed or nearly completed.

(C) Service is restored over routes formerly operated by Amtrak, including routes in the Gulf Coast region between New Orleans, Louisiana, and Orlando, Florida as described in section 11304 of the Passenger Rail Reform and Investment Act of 2015.

(D) The appropriate funding or other significant participation by State, local, and regional governmental and private entities are in-place.

(E) The application is thorough and responsive to all the requirements outlined in this notice, including the strength and comprehensiveness of the capital and mobilization plan, operating plan, funding plan, and status of negotiations and agreements described in Section D(2)(b). In particular, the funding plan demonstrates the Intercity Rail Passenger Service will be financially sustainable beyond the 3-year grant period.

ii. Benefits:

FRA will evaluate the proposed rail service on:

(A) Providing daily or daytime service over routes where such service did not previously exist;

(B) Providing service to regions and communities that are underserved or not served by other intercity public transportation;

(C) Fostering economic development, particularly in rural communities and for disadvantaged populations; and

(D) Enhancing connectivity and geographic coverage of the existing national network of Intercity Rail Passenger Service, and

(E) Providing other non-transportation benefits.

c. Selection Criteria

In addition to the eligibility and completeness review and the evaluation criteria outlined in this subsection, the FRA Administrator will also take into account the following key Departmental objectives:

i. Supporting economic vitality at the national and regional level;

ii. Leveraging Federal funding to attract other, non-Federal sources of infrastructure investment, as well as accounting for the life-cycle costs of the project;

iii. Using innovative approaches to improve safety and expedite project delivery; and

iv. Holding grant recipients accountable for their performance and achieving specific, measurable outcomes identified by grant applicants.

2. Review and Selection Process

FRA will conduct a three-part application review process, as follows:

a. Screen applications for completeness and eligibility;

b. Evaluate eligible applications (completed by technical panels applying the evaluation criteria); and

c. Select projects for funding (completed by the FRA Administrator applying the selection criteria).

F. Federal Award Administration Information

1. Federal Award Notice

Applications selected for funding will be announced after the application review period. FRA will contact applicants with successful applications after announcement with information and instructions about the award process. This notification is not an authorization to begin proposed project activities. A formal cooperative agreement signed by both the grantee and the FRA, including an approved scope, schedule, and budget, is required before the award is considered complete.

2. Administrative and National Policy Requirements

Due to funding limitations, projects that are selected for funding may receive less than the amount originally requested. In those cases, applicants must be able to demonstrate the proposed projects are still viable and can be completed with the amount awarded.

For projects on a State-Supported route (as defined in 49 U.S.C. 24102(13), grant recipients must be in compliance with the cost allocation methodology required under Section 209 of the Passenger Rail Investment and Improvement Act of 2008 (Pub. L. 110-432) with respect to that route. Selected grantees must maintain compliance with the cost allocation methodology for the duration of the service.

Grantees and entities receiving funding from the grantee must comply with all applicable laws and regulations. A non-exclusive list of administrative and national policy requirements that grantees must follow includes: 2 CFR part 200; procurement standards; compliance with Federal civil rights laws and regulations; disadvantaged business enterprises; debarment and suspension; drug-free workplace; FRA's and OMB's Assurances and Certifications; Americans with Disabilities Act; safety requirements; NEPA; environmental justice; and the requirements in 49 U.S.C. 24405 including the Buy America requirements.

See an example of standard terms and conditions for FRA grant awards at https://www.fra.dot.gov/Elib/Document/14426.

3. Reporting

a. Reporting Matters Related to Integrity and Performance

Before making a Federal award with a total amount of Federal share greater than the simplified acquisition threshold (see 2 CFR 200.88 Simplified Acquisition Threshold), FRA will review and consider any information about the applicant that is in the designated integrity and performance system accessible through SAM (currently the Federal Awardee Performance and Integrity Information System (FAPIIS)) (see 41 U.S.C. 2313).

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.205.

b. Progress Reporting on Grant Activity

Each applicant selected for a grant will be required to comply with all standard FRA reporting requirements, including quarterly progress reports, quarterly Federal financial reports, and interim and final performance reports, as well as all applicable auditing, monitoring and close out requirements. Reports may be submitted electronically.

c. Performance Reporting

As a part of the grant agreement, the grant recipient must provide similar information regarding the route performance, financial, and ridership projections, and capital and business plans that Amtrak is required to provide to FRA, as well as other implementation information that includes the status of the investments and funded operations, the plans for continued operation and funding of routes, and any legislative recommendations.

Grant recipients must also collect information and report on the project's performance using measures established by the FRA to assess progress in achieving strategic goals and objectives. Examples of some rail measures are listed in the below table.

Rail measures | Unit measured | Temporal | Primary strategic goal | Secondary strategic goal | Description
Passenger Counts | Count | Annual | Economic Competitiveness | State of Good Repair | Count of the annual passenger boardings and alightings at stations within the project area.
Travel Time | Time/Trip | Annual | Economic Competitiveness | Quality of Life | Point-to-point travel times between pre-determined station stops within the project area. This measure demonstrates how track improvements and other upgrades improve operations on a rail line. It also helps make sure the railroad is maintaining the line after project completion.

G. Federal Awarding Agency Contacts

For further information regarding this notice and the grants program, please contact Amy Houser, Office of Program Delivery, Federal Railroad Administration, 1200 New Jersey Avenue SE, Room W36-412, Washington, DC 20590; email: amy.houser@dot.gov, or Ruthie Americus, Office of Policy and Planning, Federal Railroad Administration,1200 New Jersey Avenue SE, Room W36-403, Washington, DC 20590; email: ruthie.americus@dot.gov.

Issued in Washington, DC, on February 15, 2018.
Jamie Rennert,
Director, Office of Program Delivery, Federal Railroad Administration.

[FR Doc. 2018-03536 Filed 2-20-18; 8:45 am]

BILLING CODE 4910-06-P